DEPARTMENT OF THE INTERIOR

Bureau of Land Management

[LLNVB00000.LF3100000.DD0000.LFHFJF500000; 13-08807; MO# 4500053474]

Notice of Availability of the Draft Environmental Impact Statement for the 3 Bars Ecosystem and Landscape Restoration Project in Eureka County, NV

AGENCY: Bureau of Land Management, Interior.

ACTION: Notice of availability.

SUMMARY: In accordance with the National Environmental Policy Act of 1969, as amended, the Bureau of Land Management (BLM), Battle Mountain District, Mount Lewis Field Office, has prepared a Draft Environmental Impact Statement (EIS) for the 3 Bars Ecosystem and Landscape Restoration Project (3 Bars Project) and by this notice is announcing the opening of the comment period.

DATES: To ensure that comments will be considered, the BLM must receive written comments on the 3 Bars Project Draft EIS within 45 days following the date the Environmental Protection Agency publishes its Notice of Availability in the Federal Register. The BLM will announce future meetings or hearings and any other public involvement activities at least 15 days in advance through media releases, Web site postings and/or mailings.

ADDRESSES: You may submit comments related to the 3 Bars Project by any of the following methods:

• Email: 3Bars_Project@blm.gov.

• Fax: 775-635-4034 Attn: Chad Lewis, 3 Bars Project.

• Mail: BLM, Attn: Chad Lewis, 3 Bars Project, 50 Bastian Road, Battle Mountain, NV 89820.

Copies of the Draft EIS are available at the BLM Battle Mountain District Office in Battle Mountain, Nevada. The document can also be downloaded from the 3 Bars Project Web site that can be accessed through a link on the Battle Mountain District's Web page at: http://www.blm.gov/nv/st/en/fo/battle_mountain_field.html.

FOR FURTHER INFORMATION CONTACT: Chad Lewis, 3 Bars Project Manager, telephone: 775-635-4102; address: 50 Bastian Road, Battle Mountain, NV 89820; or email: 3Bars_Project@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 3 Bars Project area in central Eureka County, Nevada, spans approximately 750,000 acres and includes all or portions of three major mountain ranges (Roberts Mountain, Simpson Park Range, and Sulphur Spring Range). Many factors are contributing to an overall downward trend in land condition within this area, including an increasing incidence and severity of wildfire, increasing expansion of downy brome (cheatgrass), increasing expansion and densification of pinyon pine and Utah juniper woodlands, and increasing human impacts.

The BLM is proposing a comprehensive treatment program for dramatically improving the health of the 3 Bars Project area and for reducing the risks that are contributing to its decline. The proposed project focuses on restoration at the landscape level. The proposed treatments would range from several acres to several thousand acres, depending on specific treatment and management goals and desired objectives for each resource area. Possible treatment methods would include manual, mechanical, and biological control treatments, prescribed fire or wildland fire for resource benefit, and other management actions.

In order to implement the proposed 3 Bars Project, the BLM has developed the All Available Methods Alternative, which is the preferred alternative, with treatments and treatment objectives that meet previously identified resource management goals. These goals are consistent with the 1986 Shoshone-Eureka Resource Management Plan which currently guides land management activities within the 3 Bars Project area. These goals pertain to wildlife and habitat enhancement, fire and fuels management, control of weeds, woodland and rangeland values, wetland and riparian restoration, wild horse protection, Native American concerns, and cultural resources. The BLM has identified site-specific treatment projects that it would like to implement to restore and manage the 3 Bars Project Area. Treatment projects were identified through an iterative process involving the BLM and other Federal and State agencies. Treatments would focus on four priority vegetation management concerns:

• Riparian—treatments in riparian habitats would focus on restoring functionality in areas where structural integrity (incised channel, headcuts, knickpoints, developments, and diversions) and/or appropriate species composition are compromised.

• Aspen—treatments in quaking aspen management habitats would focus on improving the health of aspen stands by stimulating aspen stand suckering and sucker survival.

• Pinyon-juniper—treatments in singleleaf pinyon pine and Utah juniper habitats would focus on thinning historic pinyon-juniper communities to promote woodland health and removing pinyon-juniper where it encroaches into riparian areas and upland habitats, including sagebrush habitat.

• Sagebrush—treatments in sagebrush habitats would focus on restoring the sagebrush community by removing encroaching pinyon-juniper, promoting the reestablishment of native forbs and grasses in sagebrush communities, and promoting the development of sagebrush in areas where it occurred historically.

The proposed 3 Bars Project has been identified by the BLM as a major Federal action and is appropriately analyzed by an EIS. The 3 Bars Project Draft EIS identifies and evaluates treatment alternatives to implement the proposed project to meet resource management goals. In addition to the All Available Methods Alternative, three other alternatives are analyzed in the Draft EIS. The No Fire Use Alternative would target the same treatment areas, but the methods of treatment would not include prescribed fire or wildland fire for resource benefit. The Minimal Land Disturbance Alternative also targets the same areas for treatment, but further limits the methods of treatment to exclude fire use, mechanical treatments, and non-classical biological controls. The BLM anticipates that more acres would be treated under the preferred alternative due to the lower cost of some of the treatment methods that would not be available under the other alternatives. A No Action alternative has also been included for comparison purposes with existing management conditions. Three additional alternatives were considered but eliminated from detailed analysis.

The BLM has prepared the Draft EIS in conjunction with its three cooperating agencies: The Nevada Department of Wildlife, Eureka County Board of Commissioners, and the National Park Service—National Trails Intermountain Region.

On January 25, 2010, the BLM published a Notice of Intent (75 FR 3916) to initiate scoping for the preparation of the EIS. The scoping period ended March 10, 2010. Public scoping meetings were held in Battle Mountain, Nevada, on February 22 and Eureka, Nevada on February 23, 2010. The BLM received 24 scoping comment letters on the proposed 3 Bars Project. In addition, comments were recorded during informal discussions with the public at the public scoping meetings. Based on written and oral comments given during the scoping period, 637 catalogued individual comments were recorded during scoping for the 3 Bars Project EIS.

Vegetation treatment planning and management and vegetation treatment methods were the primary topics of concern to the public. Respondents were also concerned with the impacts that treatment actions would have on the spread of invasive species, the viability of wild horses and livestock, preservation of old growth woodlands, and protection of habitat for wildlife and special status species. All relevant issues identified through public scoping have been analyzed in this EIS to the extent practicable. The Draft EIS describes and analyzes the proposed project's site-specific impacts (including cumulative) on all affected resources. Three action alternatives (including the preferred alternative) were analyzed in addition to the No-Action Alternative and three alternatives were considered but eliminated from further analysis.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Christopher J. Cook,
Field Manager, Mount Lewis Field Office.

[FR Doc. 2013-23484 Filed 9-26-13; 8:45 am]

BILLING CODE 4310-HC-P